DEPARTMENT OF ENERGY

Federal Energy Regulatory Commission

[Docket No. CP18-27-000; CP18-28-000]

High Point Gas Gathering, L.L.C., High Point Gas Transmission, LLC; Notice of Joint Application for a Certificate of Public Convenience and Necessity and for a Limited Jurisdiction Certificate

Take notice that on December 12, 2017, High Point Gas Transmission, LLC (HP Transmission) and High Point Gas Gathering, L.L.C. (HP Gathering), both at 2103 CityWest Blvd., Bldg. #4, Houston, TX 77042, filed an abbreviated joint application under section 7(c) of the Natural Gas Act (NGA) and Part 157 of the Commission's regulations.

In Docket No. CP18-27-000, HP Transmission seeks a certificate of public convenience and necessity authorizing it to:

(i) Lease capacity on the non-jurisdictional facilities of HP Gathering to enable HP Transmission to provide transportation service for its shippers from Main Pass Block 289 Platform and then on to the Main Pass Block 260 Platform where HP Gathering interconnects with Destin Pipeline Company, L.L.C. (Destin); and,

(ii) amend its tariff to:

(a) Allow HP Transmission to obtain interruptible off-system transportation service on other pipelines including interruptible transportation service on Destin;

(b) specify that the transportation service provided by HP Transmission through utilization of the leased capacity on HP Gathering will be firm or interruptible transportation and of the transportation service on Destin will be interruptible service only;

(c) include the initial incremental rates (including fuel, lost and unaccounted-for gas) to be paid by HP Transmission's shippers that utilize the HP Transmission service effected through the capacity leased from HP Gathering and, if desired, the interruptible service subscribed on Destin;

(d) change the price index in its imbalance cash-out mechanism to add the price indices used by Destin to reflect markets that it serves; and

(e) incorporate changes necessary to effectuate the transactions contemplated by this application, all as more fully set forth in the application which is on file with the Commission and open to public inspection.

HP Transmission further requests waivers of certain Commission regulatory requirements as set forth in the application.

In Docket No. CP18-28-000, HP Gathering seeks a limited jurisdiction certificate to enable HP Gathering to lease 150,000 Dth per day of capacity on the relevant portion of the HP Gathering to HP Transmission while, at the same time, ensuring that the Commission's jurisdiction will be asserted only over the Capacity Lease Agreement and not its non-jurisdictional gathering facilities and services and that all Commission jurisdictional filing and reporting requirements that might otherwise apply to HP Gathering will be waived.

Questions regarding this filing may be directed to Dennis J. Kelly, Senior Counsel of HP Transmission and HP Gathering at (720) 457-6076, 2103 CityWest Blvd., Bldg. #4, Houston, TX 77042.

This filing is available for review at the Commission's Washington, DC offices, or may be viewed on the Commission's website at http://www.ferc.gov using the “e-Library” link. Enter the docket number, excluding the last three digits, in the docket number field to access the document. For assistance, please contact FERC Online Support at FERCOnlineSupport@ferc.gov, or call toll-free at (866) 208-3676, or for TTY, contact (202) 502-8659.

There are two ways to become involved in the Commission's review of this Project. First, any person wishing to obtain legal status by becoming a party to the proceeding for this project should file with the Federal Energy Regulatory Commission, 888 First Street NE, Washington, DC 20426, a motion to intervene in accordance with the requirements of the Commission's Rules of Practice and Procedure, 18 CFR 385.214, 385.211 (2016), by the comment date below. A person obtaining party status will be placed on the service list maintained by the Secretary of the Commission, and will receive copies of all documents filed by the applicant and by all other parties. A party must submit filings made with the Commission by mail, hand delivery, or internet, in accordance with Rule 2001 of the Commission's Rules of Practice and Procedure, id. 385.2001. A copy must be served on every other party in the proceeding. Only parties to the proceeding can ask for court review of Commission orders in the proceeding.

However, a person does not have to intervene to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the internet in lieu of paper; see 18 CFR 385.2001(a)(1)(iii) and the instructions on the Commission's website under the “e-filing” link. The Commission strongly encourages electronic filings.

If the Commission decides to set the application for a formal hearing before an Administrative Law Judge, the Commission will issue another notice describing that process. At the end of the Commission's review process, a final Commission order approving or denying the requested authorizations will be issued.

Comment Date: 5:00 p.m. Eastern Time, January 12, 2018.

Dated: December 22, 2017.
Nathaniel J. Davis, Sr.,
Deputy Secretary.

[FR Doc. 2017-28322 Filed 1-2-18; 8:45 am]

BILLING CODE 6717-01-P